NATIONAL TRANSPORTATION SAFETY BOARD

Sunshine Act Meeting

Agenda

Time and Date: 9:30 a.m., Tuesday, October 2, 2007.

Place: NTSB Conference Center, 429 L'Enfant Plaza, SW., Washington, DC 20594.

Status: The one item is open to the public.

Matter to be Considered: 775E: Aircraft Accident Report—Runway Overrun and Collision, Southwest Airlines (SWA) flight 1248, Boeing 737-74H, N471WN, Chicago Midway International Airport (MDW), Chicago, Illinois, December 8, 2005.

News Media Contact: Telephone: (202) 314-6100.

Individuals requesting specific accommodations should contact Chris Bisett at (202) 314-6305 by Friday, September 28, 2007.

The public may view the meeting via a live or archived webcast by accessing a link under “News & Events” on the NTSB home page http://www.ntsb.gov.

For Further Information Contact: Vicky D'Onofrio, (202) 314-6410.

Dated: September 21, 2007.
Vicky D'Onofrio,
Federal Register Liaison Officer.

[FR Doc. 07-4733 Filed 9-21-07; 1:11 pm]

BILLING CODE 7533-01-M